GENERAL SERVICES ADMINISTRATION

Office of Communications, Standard and Optional Forms Management Office; Cancellation of a Standard Form

AGENCY: General Services Administration.

ACTION: Notice.

SUMMARY: Because of low usage, the following Optional Form is cancelled:

OF 10, U.S. Government Memorandum.

FOR FURTHER INFORMATION CONTACT: Ms. Barbara Williams (202) 501-0581.

DATES: Effective March 16, 2000.

Dated:February 29, 2000.
Barbara M. Williams,
Deputy Standard and Optional Forms Management Officer.

[FR Doc. 00-6467 Filed 3-15-00; 8:45 am]

BILLING CODE 6820-34-M